DEPARTMENT OF DEFENSE

Office of the Secretary

Termination of Department of Defense Federal Advisory Committees

AGENCY: DoD.

ACTION: Termination of Federal Advisory Committee.

SUMMARY: Under the provisions of the Federal Advisory Committee Act of 1972 (5 U.S.C. Appendix), 41 CFR § 102-3.55, and the Government in the Sunshine Act of 1976 (5 U.S.C. 552b), effective October 5, 2012, the Department of Defense gives notice that it is terminating the Naval Research Advisory Committee.

FOR FURTHER INFORMATION CONTACT: Jim Freeman, Advisory Committee Management Officer for the Department of Defense, 703-692-5952.

Dated: November 26, 2012.
Aaron Siegel,
Alternate OSD Federal Register Liaison Officer, Department of Defense.

[FR Doc. 2012-28915 Filed 11-29-12; 8:45 am]

BILLING CODE 5001-06-P